DEPARTMENT OF THE INTERIOR

Bureau of Land Management

[CO-134-1610-DQ]

Notice of Call for Nominations for the McInnis Canyons National Conservation Area (NCA) Advisory Council

AGENCY: Bureau of Land Management, Department of the Interior.

ACTION: Notice.

SUMMARY: The Bureau of Land Management (BLM) is requesting nominations for ten membership positions on the McInnis Canyons National Conservation Area Advisory Council. The Council advises the Secretary and the BLM on resource management issues associated with the McInnis Canyons NCA and Black Ridge Canyons Wilderness.

DATES: Submit a completed nomination form and nomination letters to the address listed below no later than October 14, 2005.

ADDRESSES: Send completed nominations to: McInnis Canyons NCA Manager, Grand Junction Field Office, Bureau of Land Management, 2815 H Road, Grand Junction, CO 81506.

FOR FURTHER INFORMATION CONTACT: Paul Peck, NCA Manager, (970) 244-3049, paul_peck@co.blm.gov.

SUPPLEMENTARY INFORMATION: Any individual or organization may nominate one or more persons to serve on the McInnis Canyons NCA Advisory Council. Individuals may nominate themselves for Council membership. You may obtain nomination forms at the BLM Grand Junction Field Office, or by contacting the McInnis Canyons NCA Manager (see ADDRESSES and FOR FURTHER INFORMATION CONTACT above). To make a nomination, you must submit a completed nomination form, letters of reference from the represented interests or organizations, as well as any other information that speaks to the nominee's qualifications to the McInnis Canyons NCA Manager, Grand Junction Field Office, address listed above. You may make nominations for the following categories of interest:

(1) A member of, or nominated by, the Mesa County Board of County Commissioners.

(2) A member of, or nominated by, the Northwest Colorado Resource Advisory Council.

(3) A member nominated by the permittees holding grazing allotments within the NCA or the Black Ridge Canyons Wilderness.

(4) Seven members residing in, or within reasonable proximity to, Mesa County, Colorado, with recognized backgrounds reflecting—

(A) The purposes for which the NCA or Wilderness was established; and

(B) The interests of the stakeholders that are affected by the management of the NCA and Wilderness.

The specific category the nominee would like to represent should be identified in the letter of nomination and on the nomination form. The McInnis Canyons NCA—Grand Junction Field Office will collect the nomination forms and letters of reference, and distribute them to the officials responsible for reviewing and recommending nominations (Board of County Commissioners—Mesa County, the Northwest Colorado Resource Advisory Council, and the BLM). The BLM will then forward recommended nominations to the Secretary of the Interior who has responsibility for making the final decision to appoint individual appointments.

The purpose of the McInnis Canyons NCA Advisory Council is to advise the BLM on the management of the McInnis Canyons NCA and Black Ridge Canyons Wilderness. Each member will be a person who, as a result of training and experience, has knowledge or special expertise which qualifies that individual to provide advice from among the categories of interest listed above. Members will serve without monetary compensation but will be reimbursed for travel and per diem expenses at current rates for Government employees.

Paul Peck,
Manager, McInnis Canyons National Conservation Area.

[FR Doc. 05-18261 Filed 9-13-05; 8:45 am]

BILLING CODE 4310-JB-P